DEPARTMENT OF JUSTICE

Office of Justice Programs

[OMB Number 1121-0259]

Agency Information Collection Activities; Proposed Collection; Comments Requested: Bureau of Justice Assistance Application Form: Public Safety Officer's Medal of Valor

ACTION: 60-Day Notice of Information Collection Under Review.

The Department of Justice (DOJ), Office of Justice Programs (OJP), will be submitting the following information collection request to the Office of Management and Budget (OMB) for review and approval in accordance with the Paperwork Reduction Act of 1995. The proposed information collection is published to obtain comments from the public and affected agencies. Comments are encouraged and will be accepted for “sixty days” until October 29, 2012. This process is conducted in accordance with 5 CFR 1320.10.

If you have comments especially on the estimated public burden or associated response time, suggestions, or need a copy of the proposed information collection instrument with instructions or additional information, please contact Maria A. Berry, Senior Advisor by email at M.A.Berry@ojp.usdoj.gov or by telephone at 202-353-8643, Bureau of Justice Assistance, Office of Justice Programs, U.S. Department of Justice, 810 Seventh Street NW., Washington, DC 20531.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: Bureau of Justice Assistance Application Form: Public Safety Officers Medal of Valor.

(3) Agency form number, if any, and the applicable component of the Department of Justice sponsoring the collection: Form Number: None.

(4) Affected public who will be asked or required to respond, as well as a brief Abstract: Primary: State, local and tribal government agencies within the United States and its territories.

Abstract: The Bureau of Justice Assistance, a component of the Office of Justice Program, Department of Justice, administers the Public Safety Officer's Medal of Valor. Once a year, the President of the United States of America may award, and present in the name of Congress, a Medal of Valor of appropriate design, with ribbons and appurtenances, to a public safety officer who is cited by the Attorney General, upon the recommendation of the Medal of Valor Review Board, for extraordinary valor above and beyond the call of duty. The Public Safety Officer Medal of Valor is the highest national award given to a public safety officer in recognition of their bravery and altruistic acts of valor to protect and save the lives of others. Nomination(s) for this award is voluntary.

Nominations are received through the Internet, or postal mail. The Medal of Valor program is governed by F1.R.802, the “Public Safety Officer Medal of Valor Act of 2001.

(5) An estimate of the total number of respondents and the amount of time estimated for an average respondent to respond/reply: It is estimated that it will take the 225 applicants under the Medal of Valor approximately 25 minutes to complete the application form.

(6) An estimate of the total public burden (in hours) associated with the Collection. The total estimated annual hour burden to complete the application/nomination form is 93.75 hours.

If additional information is required contact: Jerri Murray, Department Clearance Officer, U.S.Department of Justice, Justice Management Division, Policy and Planning Staff, Two Constitution Square, 145 N Street NE., Room 2E-508, Washington, DC 20530.

Dated: August 23, 2012.
Jerri Murray,
Department Clearance Officer, PRA, Department of Justice.

[FR Doc. 2012-21210 Filed 8-28-12; 8:45 am]

BILLING CODE 4410-18-P